FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 011922-003.

Title: TNWA/GA Cooperative Working Agreement.

Parties: American President Lines, Ltd.; APL Co., Pte. Ltd; Hapag-Lloyd AG; Hyundai Merchant Marine Co., Ltd.; Mitsui O.S.K. Lines, Ltd.; Nippon Yusen Kaisha; Orient Overseas Container Line (Europe) Limited; Orient Overseas Container Line, Inc. Orient Overseas Container Line, Inc.

Filing Party: Wayne Rohde, Esq.; Cozen O'Connor; 1627 I Street, NW.; Suite 1100; Washington, DC 20006.

Synopsis: The amendment updates the corporate addresses of APL and Hyundai.

Agreement No.: 011928-005.

Title: Maersk Line/HLAG Slot Charter Agreement.

Parties: A.P. Moller-Maersk A/S and Hapag-Lloyd AG.

Filing Party: Wayne Rohde, Esq.; Cozen O'Connor; 1627 I Street, NW.; Suite 1100; Washington, DC 20006.

Synopsis: The amendment would revise the language to reflect changes in allocations due to added tonnage in the service and would extend the duration of the agreement.

Agreement No.: 012034-002.

Title: Hamburg Sud/Maersk Line Vessel Sharing Agreement.

Parties: Hamburg-Sud and A.P. Moeller-Maersk A/S.

Filing Party: Wayne Rohde, Esq.; Cozen O'Connor; 1627 I Street, NW.; Suite 1100; Washington, DC 20006.

Synopsis: The amendment would revise the number of vessels deployed and would make corresponding operational changes in services under the agreement.

Agreement No.: 012057-005.

Title: CMA CGM/Maersk Line Space Charter, Sailing and Cooperative Working Agreement Asia to USEC and PNW-Suez/PNW & Panama Loops.

Parties: A.P. Moller-Maersk A/S and CMA CGM S.A.

Filing Party: Wayne R. Rohde, Esq.; Cozen O'Connor; 1627 I Street, NW.; Suite 1100; Washington, DC 20006.

Synopsis: The amendment increases the number and size of vessels to be deployed under the agreement, revises the space allocations of the parties, and deletes obsolete language from the agreement.

Agreement No.: 012115.

Title: HSDG-CCNI USWC-Europe Vessel Sharing Agreement.

Parties: Compania Chilena De Navegacion Interoceanica, S.A. and Hamburg Sud.

Filing Party: Wayne Rohde, Esq.; Cozen O'Connor; 1627 I Street, NW.; Suite 1100; Washington, DC 20006.

Synopsis: The agreement authorizes the parties to share vessels in the trade between the U.S. West Coast and ports on the Pacific Coasts of Mexico, Canada and Central America, Caribbean Coasts of Panama, Colombia, ports in Continental Europe, United Kingdom and North Africa.

By Order of the Federal Maritime Commission.
Dated: December 23, 2010.
Karen V. Gregory,
Secretary.

[FR Doc. 2010-32804 Filed 12-28-10; 8:45 am]

BILLING CODE 6730-01-P